ENVIRONMENTAL PROTECTION AGENCY

[ER-FRL-6634-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002 (67 FR 11992).

Draft EISs

ERP No. D-AFS-L65395-AK Rating EC2, Otter Lake Timber Sale(s) Project, Implementation, Plan to Harvest and Sell Timber, Hoonah Ranger District, Tongass National Forest, AK.

Summary: EPA expressed environmental concerns about adverse impacts to water and air quality, cultural resources and to threatened and endangered species.

ERP No. D-AFS-L67041-OR Rating EO2, Granite Area Mining Projects, Proposals to Approve Plans of Operation on 16 Mining Claims within the Granite Creek Watershed, Implementation North Fork John Day Ranger District, Umatilla National Forest, Grant County, OR.

Summary: EPA expressed environmental objections with the preferred alternative because preliminary determinations indicate that 10 of 16 mine plans would likely adversely affect listed mid-Columbian steel head, potential impacts to listed bull trout and Forest Service sensitive fish species, and a lack of alternatives to mitigate already impacted aquatic resources. EPA recommends that the final EIS include sufficient measures to protect and restore impaired water bodies and habitats of listed species.

ERP No. D-FAA-C51022-NJ Rating LO, Atlantic City International Airport, Air Service Improvements, Economic Development and Enhanced Efficiency and Safety, Airport Layout Plan Approval, Atlantic County, NJ.

Summary: EPA has a lack of objections with the project due to our early coordination with the FAA on the proposed action.

ERP No. D-FHW-F40408-00 Rating EC2, Trunk Highway 60 Reconstruction Project, Improvements from 1.8 miles south of the Minnesota-Iowa Border (120th Street) to I-90 north of the City of Worthington, Funding, U.S. Army COE Section 404 and NPDES Permits Issuance, Nobles County, MN and Osceola County, IA.

Summary: EPA expressed environmental concerns regarding water quality and natural resource impacts in addition to historic and cultural resource impacts. EPA requested further analyses in the FEIS and stronger purpose and need discussion in relation to the project.

ERP No. D-MMS-L02028-AK Rating EO2, Beaufort Sea Planning Area Multiples Sale 186, 195 and 202 Oil and Gas Lease Sales, Alaska Outer Continental Shelf, Offshore Marine Environment, Beaufort Sea Coastal Plain, and the North Slope Borough of Alaska.

Summary: EPA expressed environmental objections to the proposed action since it did not include the deferral lease blocks that were associated with the four deferral alternatives that would protect subsistence whale areas. EPA also expressed concern about the sufficiency of analyses addressing impacts of potential oil spills and noise disturbances to whale hunting, environmental justice, and threatened eiders. EPA recommended that the EIS's proposed alternative include deferral blocks that protects subsistence whaling and address EPA's concerns with additional information and analyses.

ERP No. D-SFW-L02029-AK Rating EC2, Swanson River Satellites Natural Gas Exploration and Development Project, Evaluation of a Right-of-Way Permit Application and U.S. Army COE Section 404 and NPDES Permits Issuance, Kenai National Wildlife Refuge, Kenai Peninsula, AK.

Summary: EPA identified environmental concerns related to the need to (1) minimize impacts from exploration activities, (2) maximize the reclamation and reuse of gravel, (3) minimize impacts to wetlands and their functions and (4) provided technical support of impact characterizations. EPA also recommended that government-to-government consultation with affected Tribal governments be conducted before issuance of the final EIS.

ERP No. DS-COE-L32010-00 Rating EC2, Columbia River Channel Improvement Project, Additional Information to Update the Disposal Plan and to Update the Project Economics, Columbia and Lower Willamette River Federal Navigation Channel, OR.

Summary: EPA expressed environmental concerns and recommended that the Corps prepare a cumulative effects analysis, explain how this project will affect the goals and objectives of the Comprehensive Conservation and Management Plan for the lower Columbia River estuary, and improve the discussion on project monitoring.

Final EISs

ERP No. F-AFS-L65387-AK Helicopter Landing Tours on the Juneau Icefield 2002 to 2006, Combination Fixed-Wing and Helicopter Landing Tour Operations to Antler Glacier Lake, Special Use Permits Issuance, Tongass National Forest, City and Borough of Juneau, AK.

Summary: No formal comment letter was sent to the preparing agency.

ERP No. F-BIA-K03026-CA Teayawa Energy Center, Construction and Operation of a 600 megawatt (MW)(nominal output), Natural-Gas-Fired, Combined-Cycle Energy Center, On Indian Trust Land, Torres Martinez Desert Cahuilla Indians Tribe, Coachella Valley, Riverside County, CA.

Summary: EPA reviewed the FEIS and found that the document adequately addresses the issues raised in our comment letter on the DEIS.

ERP No. F-FHW-C40155-NY

NY-17, Horseheads Project, Reconstruction from RM 17-6205-1069 to RM 14-6201-3040, Funding, Town and Village of Horseheads, Chemung County, NY.

Summary: EPA's comments on the DEIS were adequately addressed.

ERP No. F-FHW-G40168-LA

Bayou Barataria Bridge/LA-302 Replacement, LA-45/Jean Lafitte Boulevard to LA-3257/Privateer Boulevard, Funding and U.S. Army COE Section 404 and US Coast Guard Bridge Permits Issuance, Communities of Jean Lafitte and Barataria, Jefferson Parish, LA.

Summary: EPA expressed no further comments on the Final EIS and has no objection to the selection of the preferred alternative. EPA's comments were adequately addressed in the Final EIS.

ERP No. F-FRC-L05223-WA Martin Creek Hydroelectric Project (FERC Project No.10942), Construction, Operation and Maintenance of a 10.2-Megawatt (MW) Hydroelectric Run-of-River Facility, License Approval, Cascade Mountains, Martin and Kelley Creeks, Mt. Baker-Snoqualmie National Forest, King County, WA.

Summary: EPA continues to have environmental objections to the proposed project because it would undermine the environmental and biological protection provisions of the Northwest Forest Plan and would degrade water quality in Martin Creek, designated an “extraordinary” water body by the State of Washington. EPA recommended selection of the No Action alternative based on the negative environmental effects, negative net power benefits, and extremely small amount of power that would be generated by the project.

ERP No. F-NPS-C67000-NJ Maurice National Scenic and Recreational River (NS&RR) Comprehensive Management Plan, Implementation, Atlantic and Cumberland Counties, NJ.

Summary: No formal comment letter was sent to the preparing agency.

ERP No. F-NPS-G61040-TX Fort Davis National Historic Site, General Management Plan, Implementation, Fort Davis, TX.

Summary: EPA has no objection to the selection of the preferred alternative since the final EIS adequately responded to comments offered on the Draft EIS.

ERP No. FS-FRC-L05208-WA Irene Creek Hydroelectric Project, (FERC No.10100-002) and Anderson Creek Hydroelectric Project (FERC No. 10416-003), Construction and Operation, Issuance of Amended License Applications, Skagit and Whatcom Counties, WA.

Summary: EPA continues to have environmental objections to the proposed projects (and alternatives to it) because they would undermine Northwest Forest Plan protections, degrade pristine water quality found in Irene and Anderson Creek, and likely affect listed bull trout. Analyses in the EIS show that it would cost more to operate projects than the value of power produced and that an extremely small amount of power would be generated. For these reasons, EPA recommends that FERC select the No Action Alternative.

Dated: November 5, 2002.
Joseph C. Montgomery,
Director, NEPA Compliance Division, Office of Federal Activities.

[FR Doc. 02-28506 Filed 11-7-02; 8:45 am]

BILLING CODE 6560-50-P